DEPARTMENT OF HEALTH AND HUMAN SERVICES

Meeting of the National Vaccine Advisory Committee

AGENCY: Department of Health and Human Services, Office of the Secretary.

ACTION: Notice.

SUMMARY: As stipulated by the Federal Advisory Committee Act, the Department of Health and Human Services (DHHS) is hereby giving notice that the National Vaccine Advisory Committee (NVAC) will hold a meeting by conference call. The meeting is open to the public.

DATES: The meeting will be held on May 11, 2007, from 1 p.m. to 2:30 p.m.

ADDRESSES: This meeting will be held by conference call.

FOR FURTHER INFORMATION CONTACT: Ms. Emma English, Program Analyst, National Vaccine Program Office, Department of Health and Human Services, Room 443-H Hubert H. Humphrey Building, 200 Independence Avenue, SW., Washington, DC 20201; (202) 690-5566, nvpo@hhs.gov.

SUPPLEMENTARY INFORMATION: Pursuant to Section 2101 of the Public Service Act (42 U.S.C. Section 300aa-1), the Secretary of Health and Human Services was mandated to establish the National Vaccine Program to achieve optimal prevention of human infectious diseases through immunization and to achieve optimal prevention against adverse reactions to vaccines. The NVAC was established to provide advice and make recommendations to the Assistant Secretary for Health, as the Director of the National Vaccine Program, on matters related to the program's responsibilities.

This is a special meeting of the NVAC. Discussions will surround a draft document titled “The Promise and Challenge of Adolescent Immunization,” prepared at the request of the Assistant Secretary for Health by the Committee's Adolescent Immunization Working Group. The Committee will review the draft document and the Committee will vote to either endorse the document as an official NVAC report or request that further revisions be made to the document by the Working Group. A copy of this draft document can be found on the World Wide Web (http://www.hhs.gov/nvpo) or by contacting the contact person identified above.

For this special meeting, remote participation will be made available via a toll-free call-in phone number. This call-in number can be obtained from the contact person identified above and will be operator assisted to provide members of the public the opportunity to provide comments to the Committees. Members of the public will have the opportunity to provide comments at the meeting. Public comment will be limited to five minutes per speaker. Any members of the public who wish to have printed written comment made available to the Committee members should submit materials to the Executive Secretary, NVAC, through the contact person listed above prior to close of business May 7, 2007. Any written materials submitted by the public that are to be discussed by the Committee will be made available via the World Wide Web (http://www.hhs.gov/nvpo) prior to the meeting.

Dated: April 17, 2007.
Raymond Strikas,
Medical Advisor, National Vaccine Program Office.

[FR Doc. E7-7682 Filed 4-20-07; 8:45 am]

BILLING CODE 4150-44-P